NATIONAL COUNCIL ON DISABILITY

Youth Advisory Committee Meetings (Teleconferences)

Times and Dates:

November 14, 2006, 3:30 p.m. Eastern.

January 23, 2007, 3:30 p.m. Eastern.

April 24, 2007, 3:30 p.m. Eastern.

July 24, 2007, 3:30 p.m. Eastern.

September 18, 2007, 3:30 p.m. Eastern.

Place: National Council on Disability, 1331 F Street, NW., Suite 850, Washington, DC.

AGENCY: National Council on Disability (NCD).

Status: All parts of these conference calls will be open to the public for observation only. Those interested in observing on conference calls should contact the appropriate staff member listed below. Due to limited resources, only a few telephone lines will be available for each conference call.

Agenda: Roll call, announcements, reports, new business, adjournment.

FOR FURTHER INFORMATION CONTACT: Gerrie Drake Hawkins, Ph.D., Senior Program Analyst, National Council on Disability, 1331 F Street, NW., Suite 850, Washington, DC 20004; 202-272-2004 (voice), 202-272-2074 (TTY), 202-272-2022 (fax), youth@ncd.gov (e-mail).

Accommodations: Those needing reasonable accommodations should notify NCD at least two weeks before this meeting.

Language Translation: In accordance with Executive Order 13166, Improving Access to Services for Persons with Limited English Proficiency, those people with disabilities who are limited English proficient and seek translation services for this meeting should notify NCD at least two weeks before this meeting.

Youth Advisory Committee Mission: The purpose of NCD's Youth Advisory Committee is to provide input into NCD activities consistent with the values and goals of the Americans with Disabilities Act.

Dated: October 3, 2006.
Martin Gould,
Acting Executive Director.

[FR Doc. E6-16711 Filed 10-10-06; 8:45 am]

BILLING CODE 6820-MA-P